SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before March 28, 2022.

ADDRESSES: Send all comments to Cynthia Pitts, Director, Office of Disaster Assistance, Small Business Administration, Washington, DC 20416.

FOR FURTHER INFORMATION CONTACT: Cynthia Pitts, Director, Office of Disaster Assistance, Cynthia.pitts@sba.gov, 202-205-7570, or Curtis B. Rich, Management Analyst, 202-205-7030, curtis.rich@sba.gov.

SUPPLEMENTARY INFORMATION: Prior to Small Business Administration (SBA) approval of subsequent loan disbursement, disaster loan borrowers are required to submit information to demonstrate that they used loan proceeds for authorized purposes only and to make certain certification regarding current financial condition and previously reported compensation paid in connection with the loan.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0110.

Title: Borrower's Progress Certification.

Description of Respondents: Disaster loan Borrowers.

Form Number: SBA Form 1366.

Total Estimated Annual Responses: 14,218.

Total Estimated Annual Hour Burden: 7,106.

Curtis Rich,
Management Analyst.

[FR Doc. 2022-01726 Filed 1-27-22; 8:45 am]

BILLING CODE 8026-03-P